ENVIRONMENTAL PROTECTION AGENCY

[EPA-HQ-OPP-2014-0011; FRL-9921-17]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before February 13, 2015.

ADDRESSES: Submit your comments, identified by docket identification (ID) number and the file symbol or registration number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Jennifer McLain, Antimicrobials Division (AD) (7510P), main telephone number: (703) 305-7090; email address: ADFRNotices@epa.gov; Susan Lewis, Registration Division (RD) (7505P), main telephone number: (703) 305-7090; email address: RDFRNotices@epa.gov; Robert McNally, Biopesticides and Pollution Prevention Division (BPPD) (7510P), main telephone number: (703) 305-7090; email address: BPPDFRNotices@epa.gov.

The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

EPA Registration Numbers: 100-739; 100-1262. Docket ID number: EPA-HQ-OPP-2014-0373. Applicant: Syngenta Crop Protection, LLC, P.O. Box 8300, Greensboro, NC 27419. Active ingredient: Difenoconazole. Product type: Fungicide. Proposed Use: Pea and bean, dried shelled, except soybean, subgroup 6C; and bushberry, subgroup 13-07B. Contact: RD.

EPA Registration Numbers: 100-739, 100-1262, 100-1313, 100-1317. Docket ID number: EPA-HQ-OPP-2014-0470. Applicant: Syngenta Crop Protection, LLC, P.O. Box 8300, Greensboro, NC 27419. Active ingredient: Difenoconazole. Product type: Fungicide. Proposed Use: Ginseng; artichoke; fruit, stone, group 12-12; and nut, tree, group 14-12. Contact: RD.

EPA Registration Numbers: 100-1131, 100-1140, 100-1150. Docket ID number: EPA-HQ-OPP-2014-0303. Applicant: Syngenta Crop Protection, LLC, PO Box 18300, Greensboro, NC 27419. Active ingredient: Mesotrione (2-[4-(methylsulfonyl)-2-notrobenzoyl]-1,3-cyclohexadione). Product type: Herbicide. Proposed Use: Technical and end-use products intended for use in or on citrus fruit (orange); pome fruit (apple); stone fruit (nectarine, peach, plum); and tree nuts (almond, common walnut, pistachio). Contact: RD.

EPA Registration Number: 100-1312. Docket ID number: EPA-HQ-OPP-2014-0373. Applicant: Syngenta Crop Protection, LLC, P.O. Box 8300, Greensboro, NC 27419. Active ingredient: Difenoconazole/Propiconazole. Product type: Fungicide. Proposed Use: Pea and bean, dried shelled, except soybean, subgroup 6C; and bushberry, subgroup 13-07B. Contact: RD.

EPA Registration Number: 100-1313. Docket ID number: EPA-HQ-OPP-2014-0373. Applicant: Syngenta Crop Protection, LLC, P.O. Box 8300, Greensboro, NC 27419. Active ingredient: Difenoconazole/Azoxystrobin. Product type: Fungicide. Proposed Use: Pea and bean, dried shelled, except soybean, subgroup 6C; and bushberry, subgroup 13-07B. Contact: RD.

EPA Registration Number: 100-1317. Docket ID number: EPA-HQ-OPP-2014-0373. Applicant: Syngenta Crop Protection, LLC, P.O. Box 8300, Greensboro, NC 27419. Active ingredient: Difenoconazole/Cyprodonil. Product type: Fungicide. Proposed Use: Pea and bean, dried shelled, except soybean, subgroup 6C; and bushberry, subgroup 13-07B. Contact: RD.

EPA Registration Numbers: 100-1418, 100-1420. Docket ID number: EPA-HQ-OPP-2014-0890. Applicant: Syngenta Crop Protection LLC, P.O. Box 18300, Greensboro, NC 27419. Active ingredient: Cyantraniliprole. Product type: Insecticide. Proposed Use: Oilseed crop group 20 (seed treatment), corn (field, sweet, pop) (seed treatment). Contact: RD.

EPA File Symbol: 100-RLEO. Docket ID number: EPA-HQ-OPP-2014-0149. Applicant: Syngenta Crop Protection, LLC, P.O. Box 18300, Greensboro, NC 27419. Active ingredient: Difenoconazole/Fludioxonil. Product type: Fungicide. Proposed Use: Fruit, pome, group 11-10, post-harvest application. Contact: RD.

EPA Registration Numbers: 279-3125, 279-3126, 279-3426. Docket ID number: EPA-HQ-OPP-2014-0889. Applicant: FMC Corporation, 1735 Market Street, Philadelphia, PA 19103. Active ingredient: Zeta-cypermethrin. Product type: Insecticide. Proposed Use: Corn forage and corn stover. Contact: RD.

EPA Registration Numbers: 7969-275, 7969-276. Docket ID number: EPA-HQ-OPP-2014-0640. Applicant: BASF Corporation, 26 Davis Drive, P.O. Box 13528, Research Triangle Park, NC 27709-3528. Active ingredient: Saflufenacil. Product type: Herbicide. Proposed Use: Pomegranate. Contact: RD.

EPA Registration Number: 10163-277. Docket ID number: EPA-HQ-OPP-2014-0803. Applicant: Gowan Company, P.O. Box 5569, Yuma, AZ, 85366-5569. Active ingredient: Hexythiazox. Product type: Insecticide. Proposed Use: Wheat. Contact: RD.

EPA Registration Numbers: 33980-3, 72139-4. Docket ID number: EPA-HQ-OPP-2014-0739. Applicant: Shikoku Chemicals Corporation, 122 C Street NW., Suite 505, Washington, DC 20001. Active ingredient: Sodium Dichloro-s-Triazinetrione Dihydrate. Product type: Antimicrobial. Proposed Use: Ballast water treatment. Contact: AD.

EPA Registration Number: 43813-32. Docket ID number: EPA-HQ-OPP-2014-0590. Applicant: Janssen Pharmaceutica NV, 1125 Trenton-Harbourton Rd, Titusville, NJ 08560. Active ingredient: Pyrimethanil. Product type: Fungicide. Proposed Use: Crop group conversion for pome fruit group 11-10, orange subgroup 10-10A, lemon subgroup 10-10B, grapefruit subgroup 10-10C, and stone fruit group 12-12. Contact: RD.

EPA Registration Number/File Symbol: 67690-6, 67690-TG. Docket ID number: EPA-HQ-OPP-2014-0913. Applicant: SePRO Corporation, 11550 North Meridian Street Suite 600, Carmel, Indiana 46032-4565. Active ingredient: Fluridone. Product type: Herbicide. Proposed Use: Cotton. Contact: RD.

EPA File Symbols: 67727-T, 67727-L, 67727-A. Docket ID number: EPA-HQ-OPP-2014-0885. Applicant: D-I-1-4, Inc., a Division of 1,4 Group, Inc., P.O. Box 860, Meridian, ID 83680. Active ingredient: 1-Octanol. Product type: Plant growth regulator (sprout inhibitor). Proposed Use: Indoor use on root and tuber crops, bulb crops, and ornamental flowering bulbs. Contact: BPPD.

EPA Registration Numbers: 70506-174, 70506-175, 70506-176, 70506-191. Docket ID number: EPA-HQ-OPP-2014-0613. Applicant: United Phosphorus, Inc., 630 Freedom Business Center Suite 402, King of Prussia, PA 19406. Active ingredient: Endothall. Product type: Herbicide. Proposed Use: Remove livestock watering restrictions for aquatic use. Contact: RD.

EPA File Symbol: 73049-LNN. Docket ID number: EPA-HQ-OPP-2014-0898. Applicant: Valent BioSciences Corporation, 870 Technology Way, Libertyville, IL 60048. Active ingredient: Methyl Salicylate. Product type: Plant growth regulator (increase plant defense to pathogens). Proposed Use: Pre-flowering on tomatoes and peppers. Contact: BPPD.

EPA Registration Numbers: 81880-2, 81880-15, 81880-18. Docket ID number: EPA-HQ-OPP-2014-0574. Applicant: Canyon Group, c/o Gowan Company, P.O. Box 5563, Yuma, AZ 85366-5569. Active ingredient: Halosulfuron-methyl. Product type: Herbicide. Proposed Use: Pome fruit group 11-10; and small fruit vine climbing subgroup 13-07F. Contact: RD.

EPA File Symbol: 85797-R. Docket ID number: EPA-HQ-OPP-2014-0880. Applicant: TDA Research, Inc. 12345 W. 52nd Avenue, Wheat Ridge, CO 80033. Active ingredient: Sodium chlorite, Sodium bromide. Product type: Antimicrobial. Proposed Use: A Handheld Electrochemical Decon Apparatus Used To Disinfect Hard Non-Porous Surfaces. Contact: AD.

EPA File Symbol: 89994-R. Docket ID number: EPA-HQ-OPP-2014-0876. Applicant: GE Healthcare Bio-Sciences Corp, 9900 Innovation Drive, RP-2131, Wauwatosa, WI 53226. Active ingredient: Sodium Lauryl Sulfate. Product type: Antimicrobial. Proposed Use: Impregnation into cellulose cards to prevent microorganism growth. Contact: AD.

Authority: 7 U.S.C. 136 et seq.

Dated: January 2, 2015.
Daniel J. Rosenblatt,
Director, Registration Division, Office of Pesticide Programs.

[FR Doc. 2015-00502 Filed 1-13-15; 8:45 am]

BILLING CODE 6560-50-P